ENVIRONMENTAL PROTECTION AGENCY

[FRL-7620-8]

RIN 2040-ACXX

Extension of Comment Period for the Preliminary Effluent Guidelines Program Plan for 2004/2005

AGENCY: Environmental Protection Agency (EPA).

ACTION: Extension of comment period.

SUMMARY: The Environmental Protection Agency is extending the comment period for the Preliminary Effluent Guidelines Program Plan for 2004/2005, published on December 31, 2003 (68 FR 75515). The preliminary plan describes the effluent guidelines program and the Agency's current effluent guidelines development efforts. In response to requests from stakeholders, this action extends the comment period for 30 days.

DATES: Comments on the preliminary plan will be accepted through March 18, 2004. Comments provided electronically will be considered timely if they are submitted by 11:59 p.m. Eastern Time on March 18, 2004.

ADDRESSES: Submit written comments to the Water Docket, U.S. Environmental Protection Agency, Mail Code: 4101 T, 1200 Pennsylvania Avenue, NW., Washington, DC 20460, Attention Docket ID No. OW-2003-0074; or submit them electronically to http://www.epa.gov/edocket/. If you have questions, consult the person listed under the FOR FURTHER INFORMATION CONTACT section of this notice.

FOR FURTHER INFORMATION CONTACT: Mr. Carey Johnston at (202) 566-1014 or at the following e-mail address: johnston.carey@epa.gov.

SUPPLEMENTARY INFORMATION:

A. Background

On December 31, 2003 (68 FR 75515), EPA published its preliminary Effluent Guidelines Program Plan for 2004/2005. The preliminary plan describes the current status of EPA's planning for the effluent guidelines program, presents the results of EPA's annual review of the effluent guidelines it has already promulgated for industrial categories, and identifies industrial categories that EPA expects to investigate further for the possible development or revision of effluent limitations guidelines.

The original comment deadline was February 17, 2004. Numerous stakeholders have requested an extension to the comment period in order to adequately understand and comment on the preliminary plan. This action extends the comment period for 30 days.

B. How and Where To Submit Comments

EPA established the public record for the preliminary plan under docket number OW-2003-0074. The record is available for inspection at the Water Docket in the EPA Docket Center, (EPA/DC) EPA West, Room B102, 1301 Constitution Avenue, NW., Washington, DC. The EPA Docket Center Public Reading Room is open from 8:30 a.m. to 4:30 p.m., Monday through Friday, excluding legal holidays. The telephone number for the Public Reading Room is (202) 566-1744, and the telephone number for the Water Docket is (202) 566-2426.

To submit comments, or access the official public docket, please follow the detailed instructions as provided in Unit C of the SUPPLEMENTARY INFORMATION section of the December 31, 2003 Federal Register notice. EPA requests an original and three copies of any December 31, 2003 Federal Register notice. EPA requests an original and three copies of any written comments and enclosures (including references). Commenters who want EPA to acknowledge receipt of their comments should enclose a self-addressed, stamped envelope. No facsimiles (faxes) will be accepted. If you have questions, consult the person listed under the FOR FURTHER INFORMATION CONTACT section of this notice.

Dated: February 6, 2004.
Benjamin H. Grumbles,
Acting Assistant Administrator for Water.

[FR Doc. 04-3090 Filed 2-11-04; 8:45 am]

BILLING CODE 6560-50-P